DEPARTMENT OF THE INTERIOR

Bureau of Land Management

[NV-020-1610-DO-015F]

Notice of Intent To Prepare a Resource Management Plan (RMP) and Associated Environmental Impact Statement (EIS) and Initiate the Public Scoping Process

AGENCY: Bureau of Land Management, Interior.

ACTION: Notice of intent.

SUMMARY: Notice is hereby given that the Bureau of Land Management (BLM), Winnemucca Field Office (WFO), Nevada, is initiating a planning effort to prepare the Winnemucca RMP and associated EIS. The RMP would replace the existing 1982 Sonoma-Gerlach and Paradise-Denio Management Framework Plans and one land use plan amendment titled the “Paradise-Denio and Sonoma-Gerlach Management Framework Plan-Lands Amendment (Jan. 1999).”

DATES: The scoping comment period will commence with the publication of this notice and will end on May 24, 2005. However, collaboration with the public will continue throughout the planning process. Public meetings will be announced through the local news media, newsletters, and a BLM Web site at least 15 days prior to the event. Comments on issues and planning criteria should be received on or before the end of the scoping period at the address listed below.

ADDRESSES: Written comments should be sent to the Winnemucca Field Office, Bureau of Land Management, 5100 E. Winnemucca Blvd., Winnemucca, NV 89445 or via fax at (775) 623-1503. Comments, including names and addresses of respondents, will be available for public review at the BLM WFO, during regular hours 7:30 a.m.-4:30 p.m., Monday-Friday, except holidays. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: For further information and/or to have your name added to our mailing list, contact Jeff Johnson, Project Lead, Telephone (775) 623-1500.

SUPPLEMENTARY INFORMATION: The purpose of the public scoping process is to identify issues that should be considered in the RMP/EIS and to initiate public participation in the planning process. BLM personnel will also be present at scoping meetings to explain the planning process and other requirements for preparing the RMP/EIS.

The planning area includes lands within the BLM WFO administrative boundary. The WFO RMP decision area encompasses about 7.1 million acres of public lands, which are located within Humboldt, Pershing, Lyon, Churchill and Washoe Counties, Nevada. The decision area includes public lands administered by the BLM WFO, and does not include private lands, state lands, tribal trust lands, federal lands not administered by the BLM, and lands located within the planning area of the RMP for the Black Rock Desert—High Rock Canyon Emigrant Trails National Conservation Area, associated Wilderness Areas, and other contiguous lands.

The plan will fulfill the needs and obligations set forth by the National Environmental Policy Act (NEPA) and associated Council of Environmental Quality Regulations 40 CFR part 1500. The plan also fulfills requirements of the Federal Land Policy and Management Act (FLPMA: 43 U.S.C. 1711), applicable planning regulations at 43 CFR part 1600, and BLM management policies.

The BLM WFO will work collaboratively with interested parties to identify the management actions and decisions that are best suited to local, regional, and national needs and concerns of the public, subject to planning criteria to be developed to guide the plan. Preliminary issues and management concerns have been identified by the BLM, other agencies, and meetings with individuals and user groups. The major issue themes to be addressed in the RMP effort include:

• Management and protection of public land resources while allowing for multiple uses.

• Management of riparian areas and water quality concerns.

• Recreation/visitor use and safety management.

• Travel management, including Off Highway Vehicle.

• Management of areas with special values.

• Energy and minerals management.

• Management of wildlife habitat including protection of sensitive species habitat.

• Land Tenure Adjustments.

After gathering public comments, issues will be placed in one of three categories.

1. Issues to be resolved by the plan;

2. Issues resolved through policy or administrative action; or

3. Issues beyond the scope of this plan.

Rationale will be provided in the plan for each issue placed in category two or three. In addition to these major issues, a number of management questions and concerns will be addressed in the plan. The public is encouraged to help identify these questions and concerns during the scoping phase. An interdisciplinary approach will be used to develop the plan in order to consider the variety of issues and concerns identified. Disciplines involved in the planning process will include specialists with expertise in rangeland management, minerals and geology, outdoor recreation, archaeology, paleontology, wildlife, fisheries, wild horse & burro, weeds, lands and realty, hydrology, soils, engineering, fire, wilderness, hazardous materials, and social and economic. The BLM has identified some preliminary planning criteria to guide the development of the plan. The following planning criteria have been proposed to guide the development of the plan, to avoid unnecessary data collection and analyses, and to ensure the plan is tailored to issues. Other criteria may be identified during the public scoping process. Proposed planning criteria include the following:

• The plan will comply with all applicable laws, regulations and current policies.

• Broad-based public participation will be an integral part of the planning and EIS process.

• The plan will recognize valid existing rights.

• Areas with special designations as appropriate.

Dated: December 16, 2004.
Vicki L. Wood,
Acting Field Manager.

[FR Doc. 05-2632 Filed 3-24-05; 8:45 am]

BILLING CODE 4310-HC-P